DEPARTMENT OF AGRICULTURE

Agricultural Marketing Service

[Document No. AMS-ST-14-0064]

Plant Variety Protection Board Meeting

AGENCY: Agricultural Marketing Service, USDA.

ACTION: Notice of meeting.

SUMMARY: Pursuant to the Federal Advisory Committee Act (FACA), the Agricultural Marketing Service (AMS) is announcing a meeting of the Plant Variety Protection Board (Board). The meeting is being held to discuss a variety of topics including, but not limited to, work and outreach plans, subcommittee activities, and proposals for procedure changes. The meeting is open to the public. This notice sets forth the schedule and location for the meeting.

DATES: Monday, December 8, 2014, from 1:00 p.m. to 5:00 p.m. and Tuesday, December 9, 2014, from 8:00 a.m. to 5:00 p.m.

ADDRESSES: The Board meeting will be held at the Hyatt Regency Chicago Hotel at the Water Tower Room, at 151 East Wacker Drive, Chicago, IL 60601.

FOR FURTHER INFORMATION CONTACT: Maria Pratt, Program Analyst, U.S. Department of Agriculture (USDA), AMS, Science and Technology Programs, 1400 Independence Avenue SW., Washington, DC 20250. Telephone: (202) 260-8983; Fax: (202) 260-8976, or Email: maria.pratt@ams.usda.gov.

SUPPLEMENTARY INFORMATION: Pursuant to the provisions of section 10(a) of the FACA (5 U.S.C. Appendix 2), this notice informs the public that the Plant Variety Protection Office (PVPO) is having a Board meeting earlier than the 15 day requirement of the FACA. The Plant Variety Protection Act (PVPA) (7 U.S.C. 2321 et seq.) provides legal protection in the form of intellectual property rights to developers of new varieties of plants, which are reproduced sexually by seed or are tuber-propagated. A certificate of Plant Variety Protection (PVP) is awarded to an owner of a crop variety after an examination shows that it is new, distinct from other varieties, genetically uniform and stable through successive generations. The term of protection is 20 years for most crops and 25 years for trees, shrubs, and vines. The PVPA also provides for a statutory Board (7 U.S.C. 2327). The PVPA Board is composed of 14 individuals who are experts in various areas of development and represent the seed industry sector, academia and government. The duties of the Board are to: (1) Advise the Secretary concerning the adoption of rules and regulations to facilitate the proper administration of the FACA; (2) provide advisory counsel to the Secretary on appeals concerning decisions on applications by the PVPO and on requests for emergency public-interest compulsory licenses; and (3) advise the Secretary on any other matters under the Regulations and Rules of Practice and on all questions under Section 44 of the FACA, “Public Interest in Wide Usage” (7 U.S.C. 2404).

The purpose of the meeting will be to discuss the PVPO 2014 achievements, 2015 work plan and outreach plan, ongoing process improvements, updates on electronic applications/database conversion, plans for PVP recognition by other countries, the activities of the subcommittee to evaluate molecular techniques for PVP distinctness characterization and proposals for procedure changes.

Agenda Items: The agenda will include, welcome and introductions, discussions on program activities that encourage the development of new plant varieties and also address appeals to the Secretary. There will be presentations on future PVP plans, electronic PVP application/computer database development, and the use of molecular markers for PVP applications. The meeting will be open to the public. Those wishing to participate are encouraged to pre-register by December 1, 2014 by contacting Maria Pratt, Program Analyst; Telephone: (202) 260-8983; Email: maria.prat@ams.usda.gov.

Meeting Accommodations: The meeting hotel is ADA compliant, and the USDA provides reasonable accommodations to individuals with disabilities where appropriate. If you need a reasonable accommodation to participate in this public meeting, please notify Maria Pratt at: Email: maria.pratt@ams.usda.gov or (202) 268-8983. Determinations for reasonable accommodation will be made on a case-by-case basis. Minutes of the meeting will be available for public review 30 days following the meeting at the internet Web site http://www.ams.usda.gov/PVPO.

Dated: October 23, 2014.
Rex A. Barnes,
Associate Administrator, Agricultural Marketing Service.

[FR Doc. 2014-25658 Filed 10-28-14; 8:45 am]

BILLING CODE 3410-02-P